NATIONAL FOUNDATION ON THE ARTS AND THE HUMANITIES

Meeting of The National Museum Services Board

Agency: Institute of Museum and Library Services.

Action: Notice of Meeting.

Summary: This notice sets forth the agenda of a forthcoming meeting of the National Museum Services Board. This notice also describes the function of the board. Notice of this meeting is required under the Government through the Federal Advisory Committee Act 5 U.S.C. App., and regulations of the Institute of Museum and Library Services, 45 CFR 1180.84.

Time/Date: 3:00 p.m.-5:30 p.m. on Thursday, September 14, 2000.

Status: Open.

Address: The Madison Hotel, 15th and M Streets, NW, Mt. Vernon Room—Salon C, Washington, DC 20005, (202) 862-1600.

FOR FURTHER INFORMATION CONTACT: Elizabeth Lyons, Special Assistant to the Director, Institute of Museum and Library Services, 1100 Pennsylvania Avenue, NW, Room 510, Washington, DC 20506, (202) 606-4649.

SUPPLEMENTARY INFORMATION: The National Museum Services Board is established pursuant to 20 U.S.C. section 9175. The Board has responsibility for the general policies with respect to the powers, duties, and authorities vested in the Institute under the Museum Services Act.

The meeting on Thursday, September 14, 2000 will be open to the public. If you need special accommodations due to a disability, please contact: Institute of Museum and Library Services, 1100 Pennsylvania Avenue, NW, Washington, DC 20506—(202) 606-8536—TDD (202) 606-8636 at least seven (7) days prior to the meeting date.

Agenda

79th Meeting of the National Museum Services Board; The Madison Hotel, 15th and M Streets, NW, Mt. Vernon Room—Salon C, Washington, DC 20005, (202) 862-1600 on Thursday, September 14, 2000.

3:00 p.m.-5:30 p.m.

I. Chairperson's Welcome and Minutes of the 78th NMSB Meeting—May 18, 2000

II. Director's Report

III. Departmental Reports:

Legislative/Public Affairs Report

Office of Research and Technology Report

Office of Museum Services Program Report

Office of Library Services Program Report

IV. Conservation Assessment Program: Evaluation and Discussion

Perspectives on Fundraising

Dated: August 15, 2000.
Linda Bell,
Director of Policy, Planning and Budget, National Foundation on the Arts and Humanities, Institute of Museum and Library Services.

[FR Doc. 00-21834 Filed 8-25-00; 8:45 am]

BILLING CODE 7036-01-M